DEPARTMENT OF JUSTICE

Antitrust Division

Notice Pursuant to the National Cooperative Research and Production Act of 1993—Application Service Provider Industry Consortium, Inc.

Notice is hereby given that, on April 27, 2000, pursuant to Section 6(a) of the National Cooperative Research and Production Act of 1993, 15 U.S.C. 4301 et seq. (“the Act”), Application Service Provider Industry Consortium, Inc. has filed written notifications simultaneously with the Attorney General and the Federal Trade Commission disclosing changes in its membership status. The notifications were filed for the purpose of extending the Act's provisions limiting the recovery of antitrust plaintiffs to actual damages under specified circumstances. Specifically, Riverstone networks, Berkshire, United Kingdom; Texar Software Corporation, Ottawa, Ontario, Canada; BMC Software, Houston, TX; FASTNET Corporation, Bethlehem, PA; ThruPort Technologies, Alexandria, VA; SITA, 06560 Valbonne, France; OpenAxis, Los Angeles, CA; Cynocom Corporation, Boca Raton, FL; Telcel Celular, C.A/T-Net, Caracas, Venezuela; Yummy.com, Vancouver, British Columbia, Canada; VeriCenter, Inc., Stafford, TX; Pointivity, Inc., San Diego, CA; Switch & Data Facilities Company LLC, Tampa, FL; Informix Software Inc., Menlo Park, CA; Biopop Integration Group, Charlotte, NC; Centromine, Ann Arbor, MI; ACS, Dallas, TX; Telecore, Inc., Newport Beach, CA; Digital Broadband Communications, Waltham, MA; OAO Technology Solutions, Greenbelt, MD; Shared Medical Systems, Malvern, PA; Alitum, San Diego, CA; DigitalWork.com, Chicago, IL; Sitara Networks, Inc., Waltham, MA; Personic, Inc., Brisbane, CA; Quad Research, Irvine, CA; Epicentric Inc., San Francisco, CA; CommTech Corporation, Cranbury, NJ; Securant Technologies, San Francisco, CA; CMHC Systems, Dublin, OH; LuxN, Inc., Sunnyvale, CA; Savera Systems Incorporated, Murray Hill, NJ; ThinKnowledge Networks, Kennesaw, GA; SS&C Technologies, Windsor, CT; CareTech Solutions, Inc., Southfield, MI; Cereus Technology Partners, Inc., Atlanta, GA; TeleKnowledge, Inc., Framingham, MA; Mango, Westborough, MA; Aptia, Inc., San Jose, CA; Equinix, Redwood City, CA; Symantec Corporation, Cupertino, CA; FrontLine Capital Group, New York, NY; Kewill Electronic Commerce, Inc., Beaverton, OR; ShopTok, San Francisco, CA; Gilbert & Tobin Lawyers, Sydney, Australia; Velocity Computer Solutions, Burnaby, British Columbia, Canada; Shoreline Communications, Sunnyvale, CA; Aptis, Inc., San Antonio, TX; Bluetrain.com, Inc., Walnut Creek, CA; Siennax International BV, Amsterdam, The Netherlands; Comdisco, Rosemont, IL; Extent Technologies Inc., Reston, VA; Storactive, Inc., Marina Del Rey, CA; FairMarket, Inc., Woburn, MA; MeetU.com, Waltham, MA; Bluestone Software Inc., Philadelphia, PA; NuSpeed, Maple Grove, MN; BlueMeteor Inc., Chicago, IL; Mercury International Technology, Inc., Tulsa, OK; Quintessent Communications, Inc., Redmond, WA; Kana Communications, Redwood City, CA; Tie Solutions, Inc., Newton, MA; Milinx Business Services, Inc., Vancouver, British Columbia, Canada; Mirapoint, Inc., Cupertino, CA; Foundation Systems Limited, Norwich Norfolk, United Kingdom; Andalon.com, Amherst, NY; AllGood Media, Inc., Dallas, TX; Emperative, Boulder, CO; Politicalware, Inc., Cedarhurst, NY; DoubleTwist.com, Oakland, CA; Planet Intra, Mountain View, CA; Intraco Systems, Inc., Boca Raton, FL; UpShot.com, Mountain View, CA; GWA Information Systems, Inc., Concord, MA; WorldOne Webwide Inc., Boca Raton, FL; Mindwrap, Flint Hill, VA; CenterBeam, Inc., Santa Clara, CA; I-fusion, Dublin, Ireland: TriStrata, Inc, Redwood Shores, CA; CrossWorlds Software, Inc., Burlingame, CA; Integris, Billerica, MA; Delano Technology Corp., Richmond Hill, Ontario, Canada; EvolutionB, Vancouver, British Columbia, Canada; Korea Digital Line, Seoul, Republic of Korea; Rapidfusion.com Technologies Inc., Burnaby, British Columbia, Canada; ON Technology Corporation, Waltham, MA; ABC Systems and Development Inc., Redwood Shores, CA; Esat Net, Dublin, Ireland; Southrock Limited, Windsor, Australia; Little Blue Limited, Oxford, United Kindgom; Cygent, Inc., San Francisco, CA; XP Technology, Jackson, MS; Asia Online, Ltd., Central, Hong Kong-China; webHancer Corporation, Ottawa, Ontario, Canada; Qwest Communications International Inc., Denver, CO; ApplicationStation.com, Charlotte, NC; SneakerLabs, Pittsburgh, PA; Interland, Inc., Atlanta, GA; Telstra Corporation, Melbourne, Australia; Semeru Solutions, New York, NY; F5 Networks, Seattle, WA; PeerLogic, Inc., San Francisco, CA; Creative Networks, Palo Alto, CA; Spacedisk, Inc., Londonderry, NH; Lawson Software, St. Paul, MN; myCIO.com, Santa Clara, CA; Eclipsys Corporation, Delray Beach, FL; SAP America, Newtown Square, PA; Consonus, Inc., Portland, OR; MondoSoft A/S, Copenhagen K, Denmark; MDIS Mobile Data Solutions, Richmond, British Columbia, Canada; netalone.com (Hong Kong) Limited, Hong Kong, Hong Kong-China; EnergyWorkspace.com, St. Rose, LA; twest.com GmbH, Munich, Germany; Jamcracker, Sunnyvale, CA; ImageMax, Inc., Fort Washington, PA; Kronos Incorporated, Chelmsford, MA; eXstatic, Boston, MA; Leveraged Technology Inc., New York, NY; Lexitech, Branford, CT; Champion Computer Corporation, Boca Raton, FL; Convergence, Inc., Tampa, FL; NBNTech Inc., E-Commerce Solutions Provider, Lanham, MD; Apptus, Inc., Reston, VA; Systems Union Inc., White Plains, NY; and Cogent Communications, Washington, DC have been added as parties to this venture.

No other changes have been made in either the membership or planned activity of the group research project. Membership in this group research project remains open, and Application Service Provider Industry Consortium, Inc., intends to file additional written notification disclosing all changes in membership.

On July 28, 1999, Application Service Provider Industry Consortium, Inc. filed its original notification pursuant to Section 6(a) of the Act. The Department of Justice published a notice in the Federal Register pursuant to Section 6(b) of the Act on March 21, 2000 (65 FR 15174).

The last notification was filed with the Department on January 19, 2000. A notice was published in the Federal Register pursuant to Section 6(b) of the Act on June 29, 2000 (65 FR 40127).

Constance K. Robinson,
Director of Operations, Antitrust Division.

[FR Doc. 00-20305 Filed 8-10-00; 8:45 am]

BILLING CODE 4410-11-M